DEPARTMENT OF JUSTICE

[OMB Number 1122-0027]

Agency Information Collection Activities; Proposed eCollection eComments Requested; Extension of a Previously Approved Collection; Semiannual Progress Report for Grantees From the Engaging Men and Youth Program

AGENCY: Office on Violence Against Women, Department of Justice.

ACTION: 60-Day notice.

SUMMARY: The Office on Violence Against Women, Department of Justice (DOJ), will be submitting the following information collection request to the Office of Management and Budget (OMB) for review and approval in accordance with the Paperwork Reduction Act of 1995.

DATES: Comments are encouraged and will be accepted for 60 days until January 6, 2025.

FOR FURTHER INFORMATION CONTACT: If you have additional comments especially on the estimated public burden or associated response time, suggestions, or need a copy of the proposed information collection instrument with instructions or additional information, please contact Catherine Poston, Attorney Advisor, Office on Violence Against Women, 145 N Street NE, Washington, DC 20530 at 202-514-5430 or Catherine.poston@usdoj.gov.

SUPPLEMENTARY INFORMATION: Written comments and suggestions from the public and affected agencies concerning the proposed collection of information are encouraged. Your comments should address one or more of the following four points:

-—Evaluate whether the proposed collection of information is necessary for the proper performance of the functions of the Bureau of Justice Statistics, including whether the information will have practical utility;

-—Evaluate the accuracy of the agency's estimate of the burden of the proposed collection of information, including the validity of the methodology and assumptions used;

-—Evaluate whether and if so how the quality, utility, and clarity of the information to be collected can be enhanced; and

-—Minimize the burden of the collection of information on those who are to respond, including through the use of appropriate automated, electronic, mechanical, or other technological collection techniques or other forms of information technology, e.g., permitting electronic submission of responses.

Abstract: The Children and Youth & Engaging Men (CYEM) Program supports comprehensive, community-based efforts that develop and expand prevention, intervention, treatment, and response strategies to address the needs of children and youth impacted by domestic violence, dating violence, sexual assault, and stalking. In addition, the CYEM Program focuses on boys' and men's roles in ending violence against women by supporting projects that create educational programming and community organizing to encourage men and boys to work as allies with women and girls to prevent domestic violence, dating violence, sexual assault, and stalking. Through its grant awards, the CYEM Program aims to build safe, supportive, and accountable communities by preventing physical and sexual violence.

The CYEM program releases two separate funding opportunities under one program: (1) Children and Youth (CY) and (2) Engaging Men (EM). The EM program supports efforts to develop and implement strategies that engage, mobilize, and empower men and boys at individual, group, relational, and societal levels to serve as role models, positive influencers, change agents, and mentors to address and prevent domestic violence, dating violence, sexual assault, and stalking.

Eligible applicants are: nonprofit, nongovernmental entities; tribal organizations; Indian tribal governments; and units of local government or agencies of units of local government in the United States or U.S. territories. Since FY 2012, this program has been authorized by federal appropriations acts, which consolidated four previously authorized and appropriated programs into one comprehensive program.

Overview of This Information Collection

1. Type of Information Collection: Extension of a previously approved collection.

2. The Title of the Form/Collection: Semiannual Progress Report for Grantees from the Engaging Men and Youth Program.

3. The agency form number, if any, and the applicable component of the Department sponsoring the collection: 1122-0027.

4. Affected public who will be asked or required to respond, as well as the obligation to respond: Grantees from the Engaging Men and Youth Program. The affected public includes the approximately 8 grantees of the CYEM Program who are implementing engaging men and youth projects. The CYEM Program creates a unique opportunity for communities to increase collaboration among non-profit victim service providers, violence prevention programs, and child and youth organizations serving victims ages 0-24. Additionally, it supports organizations and programs that promote boys' and men's role in combating violence against women and girls. Eligible applicants are nonprofit, nongovernmental entities, Indian tribes or tribal nonprofit organizations, and territorial, tribal or unit of local government entities.

5. An estimate of the total number of respondents and the amount of time estimated for an average respondent to respond: It is estimated that it will take the approximately 8 respondents (grantees from the CYEM Program who are implementing engaging men and youth projects) approximately one hour to complete a semi-annual progress report. The semi-annual progress report is divided into sections that pertain to the different types of grantee activities.

6. An estimate of the total annual burden (in hours) associated with the collection: The total annual hour burden to complete the data collection forms is 16 hours, that is 8 grantees completing a form twice a year with an estimated completion time for the form being one hour.

7. The total annual hour burden to complete the data collection forms is 16 hours, that is 8 grantees completing a form twice a year with an estimated completion time for the form being one hour.

8. An estimate of the total annual cost burden associated with the collection, if applicable: The annualized costs to the Federal Government resulting from the OVW staff review of the progress reports submitted by grantees are estimated to be

Total Burden Hours
Activity | Number of respondents | Frequency | Total annual responses | Time per response (hours) | Total annual burden (hours)
Progress Report Form | 8 | 2/semiannually | 16 | 1 | 16
Unduplicated Totals | 8 |  | 16 |  | 16

If additional information is required contact: Darwin Arceo, Department Clearance Officer, United States Department of Justice, Justice Management Division, Policy and Planning Staff, Two Constitution Square, 145 N Street NE, 4W-218, Washington, DC.

Dated: October 31, 2024.
Darwin Arceo,
Department Clearance Officer for PRA, U.S. Department of Justice.

[FR Doc. 2024-25662 Filed 11-4-24; 8:45 am]

BILLING CODE 4410-FX-P